INTERNATIONAL BROADCASTING ADVISORY BOARD

Sunshine Act Meetings

TIME AND DATE: April 8, 2024; 10:45 a.m.-11:15 a.m. ET.

PLACE: On April 8, 2024, the Board will meet virtually.

STATUS: This meeting will be closed to the public.

MATTERS TO BE CONSIDERED: The International Broadcasting Advisory Board (Board) will conduct a meeting closed to the public at the time listed above. Board Members (membership includes Chair Kenneth Jarin, Luis Botello, Jamie Fly, Jeffrey Gedmin, Michelle Giuda, Kathleen Matthews, Under Secretary Elizabeth Allen (Secretary of State's Representative)), Counsel and acting Board Secretary to Board, the Secretariat to the Board, and recording secretaries will attend the closed meeting.

The acting Board Secretary (who also serves as U.S. Agency for Global Media's General Counsel) has certified that, in his opinion, exemptions set forth in the Government in the Sunshine Act, in particular 5 U.S.C. 552b(c)(2), (6) and (9)(B), permit closure of this meeting.

The Board approved the closing of this meeting by recorded vote. The Board also determined by recorded vote that shorter than usual notice for a meeting was required by official agency business and delayed availability of required information.

The purpose for closing the meeting is so that the IBAB may decide on hiring certain entity heads (personnel) [relates to (2), (6), and (9)]. Publicizing the deliberation would frustrate the implementation of the very item they will be proposing [relates to (9)].

In the event that the time, date, or location of this meeting changes, USAGM will post an announcement of the change, along with the new time, date, and/or place of the meeting on its website at https://www.usagm.gov.

Although a separate federal entity, USAGM prepared this notice and will continue to support the Board in accordance with 22 U.S.C. 6205(g).

CONTACT PERSON FOR MORE INFORMATION: Persons interested in obtaining more information should contact Oanh Tran at (202) 920-2583.

Authority: 5 U.S.C. 552b, 22 U.S.C. 6205(e)(3)(C).

Dated: April 4, 2024.
Meredith L. Meads,
Executive Assistant.

[FR Doc. 2024-07478 Filed 4-4-24; 11:15 am]

BILLING CODE 8610-01-P